DEPARTMENT OF ENERGY

Federal Energy Regulatory Commission

[Docket No. RP03-286-000]

Williston Basin Interstate Pipeline Company; Notice of Tariff Filing

March 5, 2003.

Take notice that on February 28, 2003, Williston Basin Interstate Pipeline Company (Williston Basin or Company), P.O. Box 5601, Bismarck, North Dakota 58506-5601, tendered for filing as part of its FERC Gas Tariff, Second Revised Volume No. 1 and Original Volume No. 2, the revised tariff sheets included in Appendix A hereto, to become effective on April 1, 2003.

Williston Basin states that it is herein proposing to revise section 38 of the General Terms and Conditions of its FERC Gas Tariff to change the method and timing of its current fuel reimbursement mechanism. Williston Basin states that it also requests the Commission accept for filing the revised tariff sheets in Appendix A that reflect revisions to the fuel reimbursement percentage and electric power reimbursement rate components of the Company's relevant transportation, gathering, and storage rates based upon the new tariff provisions proposed herein.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5827 Filed 3-11-03; 8:45 am]

BILLING CODE 6717-01-P